FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Agility Logistics Corp. (OFF), 240 Commerce, Irvine, CA 92602, Officers: Michael G. Gargaro, Vice President, Ocean Products (Qualifying Individual), Michael K. Bible, President/CEO/Director, Application Type: QI Change.

Air Sea Containers, Inc. (NVO), 1850 NW 94th Avenue, Doral, FL 33172, Officers: Alan H. Bond, President (Qualifying Individual), Rosario C. Bond, Vice President, Application Type: New NVO License.

Ali Ismailzada, Medhi Ismailzada and Gary Sachs dba Ali Baba Global Shipping (NVO), 1260 57th Avenue, Oakland, CA 94621, Officers: Gary Sachs, Partner/Logistics Manager (Qualifying Individual), Ali Ismailzada, Partner/CFO, Application Type: New NVO License.

Alpha-Raleigh USA, Limited Liability Company dba ARL-USA (NVO & OFF), 81 Doremus Avenue, Newark, NJ 07083, Officer: Hakeem K. Bisiolu, Member/Manager (Qualifying Individual), Application Type: New NVO & OFF License.

BBC Freight Line Inc. dba ABC Depot Logistics (NVO), 7400 E. Slauson Avenue, ES 5A, Commerce, CA 90040, Officers: Douglas E. Garcia, Secretary (Qualifying Individual), Fred Chen, President, Application Type: Trade Name Change.

Base Ventures International, Inc dba Base Ventures Shipping (NVO & OFF), 1405 Silver Lake Road, NW., #201, New Brighton, MN 55112, Officers: Oluwaseyi E. Olawore, President/CEO (Qualifying Individual), Novella E. Olawore, Vice President/Secretary, Application Type: Business Structure Change.

Beagle Shipping Inc (NVO & OFF), 2801 NW 74th Avenue, Miami, FL 33122, Officers: Paola Rebellon, Operations Manager/Secretary (Qualifying Individual), Ricardo J. Tovar, President, Application Type: New NVO & OFF License.

Blue Horizon Shipping Inc. (NVO), 229 NE 26th Terrace, Miami, FL 33137, Officers: David V. Rico, President (Qualifying Individual), Eleven Rico, Secretary, Application Type: New NVO License.

Business Solutions Partner, Inc. (NVO), 12493 Cliff Edge Drive, Herndon, VA 20170, Officers: Marina K. Komova, President/Treasurer/Secretary (Qualifying Individual), Ernesto Hernandez, Vice President, Application Type: New NVO License.

Dennis Shipping Int'l, Inc. (NVO), 3695-3697 NW 15th Street, Lauderdale, FL 33311, Officers: Dennis Hawthorne, President/CEO/CFO (Qualifying Individual), Jennifer Campbell, Secretary, Application Type: New NVO.

E-Cargoway Logistics USA, Inc. (NVO & OFF), 550 E. Carson Plaza Drive, #232, Carson, CA 90746, Officers: Susan W. Lee, CFO (Qualifying Individual), Myeong H. Kim, CEO/Secretary, Application Type: New NVO & OFF License.

Eurosur Logistics, LLC (NVO & OFF), 1519 NW 82nd Avenue, Doral, FL 33126, Officer: Gilberto A. Altuve, MGRM (Qualifying Individual), Application Type: New NVO & OFF License.

Fortune Seasons Corporation dba Amerasia Shipping Line (NVO), 4933 Durfee Avenue, Pico Rivera, CA 90660, Officer: Kevin Yang, Secretary (Qualifying Individual), Nadia H. Chang, Director, Application Type: QI Change.

G & F West Indies Shipping, Inc. (NVO), 1416 Blue Hill Avenue, Boston, MA 02126, Officers: Duncan B. Greenwood, President/Secretary (Qualifying Individual), Kirk D. Greenwood, Treasurer, Application Type: New NVO License.

G & G Auto Sales, LLC dba W8 Shipping (OFF), 14004 Roosevelt Blvd., Clearwater, FL 33762, Officers: Darius Ziulpa, Member Manager (Qualifying Individual), Gediminas Garmus, Member Manager, Application Type: New OFF License.

Gator Source and Supply Company Inc. dba Danmax Shipping (OFF), 12978 SW 132nd Avenue, Miami, FL 33186, Officer: Victor Rickards, President/Secretary (Qualifying Individual), Application Type: License Transfer.

Green Line Shipping & Logistics Services Inc. (NVO), 16230 Lake View Lane, Apple Valley, CA 92307, Officer: Monwar Hussain, President (Qualifying Individual), Application Type: Name Change.

Gruden USA Inc. dba Lybra Overseas Shipping (NVO & OFF), 51 Newark Street, Suite 302, Hoboken, NJ 07030, Officers: Carmen T. Rodriguez, Secretary (Qualifying Individual), Luca D. Pieri, President/Director, Application Type: QI Change.

H & Y International Cargo Services, Inc. (NVO), 12385 SW 193 Street, Miami, FL 33177, Officers: Hismel Garcia, President (Qualifying Individual), Jacqueline Tejera, Secretary, Application Type: New NVO.

Landstar Global Logistics, Inc. (NVO & OFF), 13410 Sutton Park Drive South, Jacksonville, FL 32224, Officers: Thomas A. Ming, Vice President International Operations (Qualifying Individual), Patrick J. O'Malley, President, Application Type: QI Change.

Legend International Transport, LLC (NVO), 3310 Mandeville Canyon Road, Los Angeles, CA 90049, Officers: Jacqueline Benabe, Chief Financial Officer (Qualifying Individual), Daniel Lerner, Manager, Application Type: New NVO License.

Lynx Global Corp. (NVO & OFF), 2000 NW 62nd Avenue, Building 711, Miami, FL 33122, Officers: George T. Ackler, President (Qualifying Individual), Alfonso Rey, Owner, Application Type: New NVO & OFF License.

Marcel Ogouliguende and Kevin Essone dba Export USA (OFF), 10055 Belknap Road, #119, Sugar Land, TX 77498, Officers: Marcel Ogouliguende, Partner/CFO (Qualifying Individual), Kevin Essone, Partner/CEO, Application Type: New NVO License.

MBA Logistics, LLC (OFF), 11455 Narin Drive, Brighton, MI 48114, Officers: Martin J. Stapleton, Member (Qualifying Individual), Seiko Stapleton, Member, Application Type: New OFF License.

Morgan USA Logistics Inc. (NVO), 145-40 157th Street, Suite F1, Jamaica, NY 11434, Officers: Kit Hui, President/Vice President/Secretary/Treasurer (Qualifying Individual), Application Type: New NVO License.

Mota Import Export LLC dba MTI Mota Import Export Cargo Express (NVO), 175 Smith Street, Perth Amboy, NJ 08861, Officers: Mercedes Nunez, Manager (Qualifying Individual), Angel M. Ramirez, Chief Executive Manager, Application Type: New NVO License.

Pegasus International, Inc. (NVO & OFF), 1100 Jorie Blvd., Suite 240, Oak Brook, IL 60523, Officers: Yu Cai, President/Treasurer (Qualifying Individual), Weimin Huang, Secretary, Application Type: Add OFF Service.

Pioneer Shipping Logistics, Corp. (NVO), 145-119 Guy R. Brewer Blvd., Jamaica, NY 11434, Officer: Xiao Zhi Lou, President/Vice President/Secretary/Treasurer (Qualifying Individual), Application Type: New NVO License.

Shahi Logistics LLC (OFF), 8394 Elder Creek Road, Sacramento, CA 95828, Officers: Lisa L. Germen, Vice President-Operations (Qualifying Individual), Sayed Z. Alashahi, President/Managing Member, Application Type: New OFF License.

Silver Lake Auto Inc. dba AGA Worldwide (NVO & OFF), 3807 Stinson Blvd., NE, St. Anthony, MN 55421, Officer: Bilal Haidri, President/Secretary/Treasurer (Qualifying Individual), Application Type: New NVO & OFF License.

South Cargo LLC (OFF), 8337 NW 66th Street, Miami, FL 33166, Officers: Jenny R. Contreras, Manager (Qualifying Individual), Jesus Aznar, Manager, Application Type: New OFF License.

Super Trans Lines Inc (NVO & OFF), 510 Plaza Drive, #2728, College Park, GA 30349, Officer: Wai Kwan Tang, President/Secretary/Treasurer (Qualifying Individual), Application Type: New NVO & OFF License.

Transatlantic North America Inc. (NVO & OFF), 745 Birginal Drive, Suite B, Bensenville, IL 60106, Officers: Peter G. Weinberger, President/Secretary/Treasurer (Qualifying Individual), Lynne E. Weinberger, Director, Application Type: New NVO & OFF License.

Translink International, Inc. (NVO), 2591 Highway 17, Suite #203, Richmond Hill, GA 31324, Officers: Sean D. Register, President (Qualifying Individual), Thomas Black, Treasurer, Application Type: New NVO License.

Ziad H. Hajahmed dba Cargo Marine (NVO & OFF), 3925 Galveston Road, #B, Houston, TX 77017, Officers: Ziad H. Hajahmed, Sole Proprietor (Qualifying Individual), Application Type: Add NVO Service.

Dated: April 1, 2011.
Rachel E. Dickon,
Assistant Secretary.

[FR Doc. 2011-8201 Filed 4-5-11; 8:45 am]

BILLING CODE P